DEPARTMENT OF ENERGY

Energy Information Administration

Agency Information Collection Extension

AGENCY: U.S. Energy Information Administration (EIA), Department of Energy (DOE).

ACTION: Agency information collection activities: information collection extension; notice and request for comments.

SUMMARY: The EIA, pursuant to the Paperwork Reduction Act of 1995, intends to recertify the information collection request for Form EIA-914 “Monthly Crude Oil, Lease Condensate, and Natural Gas Production Report” with the Office of Management and Budget (OMB). EIA is requesting a three year extension to this form with changes and to solicit comments from the public.

DATES: Comments regarding this proposed information collection must be received on or before June 5, 2017. If you anticipate difficulty in submitting comments within that period, contact the person listed in ADDRESSES as soon as possible.

ADDRESSES: Send comments to Jessica Biercevicz. The mailing address is U.S. Department of Energy, U.S. Energy Information Administration, Attn: Jessica Biercevicz, EI-24, Forrestal Building, 1000 Independence Avenue SW., Washington, DC 20585. To ensure receipt of the comments by the due date, submission by email (jessica.biercevicz@eia.gov) is recommended. Alternatively, Jessica Biercevicz may be contacted by telephone at 202-586-4299.

FOR FURTHER INFORMATION CONTACT: Requests for additional information or copies of the information collection instrument and instructions should be directed to Jessica Biercevicz at the contact information given above. Form EIA-914 and its instructions are also available on the internet.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including the use of automated collection techniques or other types of information technology.

This information collection request contains: (1) OMB No. 1905-0205.

(2) Information Collection Request Title: Monthly Crude Oil and Lease Condensate, and Natural Gas Production Report.

(3) Type of Request: Extension, with changes, of a currently approved collection.

(4) Purpose: Form EIA-914, “Monthly Crude Oil and Lease Condensate, and Natural Gas Production Report,” collects monthly data on natural gas production, crude oil and lease condensate production, and crude oil and lease condensate sales by API gravity category in 21 state/areas (Alabama, Arkansas, California (including State Offshore), Colorado, Federal Offshore Gulf of Mexico, Federal Offshore Pacific, Kansas, Louisiana (including State Offshore), Michigan, Mississippi (including State Offshore), Montana, New Mexico, North Dakota, Ohio, Oklahoma, Pennsylvania, Texas (including State Offshore), Utah, Virginia, West Virginia, Wyoming, and Other States (defined as all remaining states, except Alaska)). The data appears in the “Monthly Crude Oil and Lease Condensate, and Natural Gas Production Report,” on EIA's Web site and in the EIA publications, Monthly Energy Review, Petroleum Supply Annual volume 1, Petroleum Supply Annual volume 2, Petroleum Supply Monthly, Natural Gas Annual, and Natural Gas Monthly.

(4a) The proposed changes include changing the title from “Monthly Crude Oil, Lease Condensate, and Natural Gas Production Report,” to “Monthly Crude Oil and Lease Condensate, and Natural Gas Production Report.”

EIA is proposing to add Part 5 to Form EIA-914 regarding stabilizer activity. Part 5 will collect state-level volumes of crude oil and lease condensate going into stabilizer units. A stabilizer processes lighter gravity crude oil and condensate and removes the gaseous portion from the crude oil. The requested data will be reported as three new data elements: volume of oil and condensate as inputs to a stabilizer; outlet volume of stabilized oil; and outlet volume of natural gas liquids (NGL). Respondents only need to report the total volume of NGLs as a single category and do not need to provide separate estimates for each separate NGL. The reporting unit of measurement is in barrels per day (bpd).

The increase in the production of light crude oils and condensate in the crude oil production industry is the main reason that EIA is proposing changes to Form EIA-914 to include the collection of state-level volumes of crude oil and lease condensate going into stabilizer units. Stabilizers lower the Reed Vapor Pressure (RVP) of the crude oil and make it safe to transport and store. EIA is also proposing minor changes to Parts 2, 3, and 4. Currently, a respondent is limited to selecting only one pre-existing comment in the comments box drop down menu. EIA is proposing to allow respondents to select multiple frequently-used default comments, as well as the option to record specific comments in the text box. This facilitates a respondent's ability to provide a more complete and accurate explanation for the data reported on the form.

For Parts 2, 3, 4, and 5, EIA also proposes to increase the number of states/areas for which production will be separately collected and reported from 17 to 22 states/areas. EIA proposes to add the following states/areas: Alabama, federal offshore Pacific, Michigan, Mississippi, and Virginia will be reported separately and no longer included in the “Other States” group. Separately reporting for these five states/areas reduces the number of states that are included in the “Other States” reporting category from 19 (including federal Pacific) to 14. Removing these five states/areas from the “Other States” category reduces the “Other States” category's oil production by approximately 75% and gas production by 80%. EIA believes these proposed changes will reduce reporting burden for respondents, reduce reporting errors in the “Other States” category, and make it easier for respondents to answer any follow up questions for “Other States.” Production for these 5 states/areas will be estimated more accurately using the weighted least squares method rather than using the calendar year average ratio applied to the “Other States” group. The 14 states remaining in the “Other States” group account for approximately 1% or less of the Lower 48 oil and gas production. EIA is proposing these changes to Form EIA-914 to increase the precision of its collection of information on crude oil and natural gas production activities in the United States.

The burden hours per response will increase from 4.0 hours to 4.5 hours due to the addition of Part 5 regarding the reporting of information on stabilizer activity. The proposal to add five states in Parts 2, 3, 4, and 5 will not affect total burden because it only involves adding approximately nine more respondents to the sampling frame and the total budgeted sample is being reduced from 600 to 500 respondents.

EIA proposes a permanent change in the confidentiality pledge to respondents to Form EIA-914. EIA revised its confidentiality pledge to EIA-914 survey respondents under the Confidential Information Protection and Statistical Efficiency Act (44 U.S.C. 3501 (note)) (CIPSEA) in an emergency Federal Register notice released on January 12, 2017 in 82 FR 3764. These revisions are required by provisions of the Federal Cybersecurity Enhancement Act of 2015 (Pub. L. 114-11, Division N, Title II, Subtitle B, Sec. 223). This law permits and requires the Secretary of the Department of Homeland Security (DHS) to provide Federal civilian agencies' information technology systems with cybersecurity protection for their Internet traffic. Federal statistics provide key information that the Nation uses to measure its performance and make informed choices about budgets, energy, employment, health, investments, taxes, and a host of other significant topics. Strong and trusted confidentiality and exclusive statistical use pledges under the Confidential Information Protection and Statistical Efficiency Act (CIPSEA) and similar statistical confidentiality pledges are effective and necessary in honoring the trust that businesses, individuals, and institutions place in statistical agencies. In this notice EIA proposes to permanently revise the confidentiality pledge to EIA-914 respondents as follows:

The information you provide on Form EIA-914 will be used for statistical purposes only and is confidential by law. In accordance with the Confidential Information Protection and Statistical Efficiency Act of 2002 and other applicable Federal laws, your responses will not be disclosed in identifiable form without your consent. Per the Federal Cybersecurity Enhancement Act of 2015, Federal information systems are protected from malicious activities through cybersecurity screening of transmitted data. Every EIA employee, as well as every agent, is subject to a jail term, a fine, or both if he or she makes public ANY identifiable information you reported.

(5) Annual Estimated Number of Respondents: 500 respondents with 12 responses each.

(6) Annual Estimated Number of Total Responses: The annual number of total responses is 6,000.

(7) Annual Estimated Number of Burden Hours: The annual estimated burden is 27,000 hours.

(8) Annual Estimated Reporting and Recordkeeping Cost Burden: Additional costs to respondents are not anticipated beyond costs associated with response burden hours. The information is maintained in the normal course of business. The cost of the burden hours is estimated to be $1,988,820 (27,000 burden hours times $73.66 per hour). Other than the cost of burden hours, EIA estimates that there are no additional costs for generating, maintaining and providing the information.

Statutory Authority: Section 13(b) of the Federal Energy Administration Act of 1974, Pub. L. 93-275, codified at 15 U.S.C. 772(b).

Issued in Washington, DC, on February 27, 2017.
Nanda Srinivasan,
Director, Office of Survey Development and Statistical Integration, U. S. Energy Information Administration.

[FR Doc. 2017-06501 Filed 4-3-17; 8:45 am]

BILLING CODE 6450-01-P